DEPARTMENT OF TRANSPORTATION

Federal Transit Administration

Preparation of an Environmental Impact Statement on a Transit Connection Between the 6400 West Light Rail Station and South Jordan in Metropolitan Salt Lake City, UT

AGENCY: Federal Transit Administration, DOT.

ACTION: Notice of intent to prepare an Environmental Impact Statement.

SUMMARY: The Federal Transit Administration (FTA), in cooperation with the Wasatch Front Regional Council (WFRC) and Utah Transit Authority (UTA), is issuing this notice to advise interested agencies and the public that, in accordance with the National Environmental Policy Act (NEPA), an Environmental Impact Statement (EIS) will be prepared for a transit connection from the North-South Light Rail (TRAX) Station at 6400 West, extending westward along, or near, an existing rail corridor to a logical terminus in the city of South Jordan. The need for the proposed transportation project was identified in the South Salt Lake County “Transit Corridors Analysis” completed in December 2000. In addition to the rail transit alternatives from the “Transit Corridors Analysis,” the No-Build Alternative and any new alternatives generated through the scoping process will be evaluated. Scoping will be accomplished through coordination with interested persons, organizations, and federal, state, and local agencies. FTA is serving as the federal lead agency for the project in anticipation of a grant application from UTA for its construction. Based on the results of the scoping process, FTA will establish the scope of the environmental review under NEPA, including the identification of environmental issues and effects to be addressed and the reasonable alternatives to be retained for detailed evaluation.

DATES: Interagency and public scoping and information meetings will be held on the following dates at the locations indicated:

Interagency Scoping Meeting: Wednesday, January 9, 2002 from 2:00 p.m. to 4:00 p.m., at the Wasatch Front Regional Council, 295 North Jimmy Doolittle Road, Salt Lake City, UT 84116.

Public Scoping Meeting No. 1: Wednesday, January 9, 2002 from 5:00 p.m. to 8:00 p.m. at the Utah Transit Authority Board Room, located at 3600 South 700 West, Salt Lake City, UT 84119-0810.

Public Scoping Meetings No. 2: Saturday January 12, 2002 from 9:00 a.m. to 11:00 a.m. at the West Jordan City Hall, located at 8000 South Redwood Road, West Jordan, UT 84088.

Written comments on the scope of the environmental study should be sent by January 28, 2002, to Barry Banks, Project Manager, Wasatch Front Regional Council, 295 North Jimmy Doolittle Road, Salt Lake City, UT 84116.

ADDRESSES: The addresses where scoping meeting will be held and where comments on the scope of the study may be sent, appear above in the DATES section. A Scoping Booklet is available from Barry Banks, Project Manager, Wasatch Front Regional Council, 295 North Jimmy Doolittle Road, Salt Lake City, UT 84116 or by calling the project information line at (801)-904-4127.

FOR FURTHER INFORMATION CONTACT: Don Cover, Federal Transit Administration, 216 16th Street, Suite 650, Denver, Colorado 80202; telephone (303) 844-3242.

SUPPLEMENTARY INFORMATION:

I. Scoping

The WFRC and UTA will hold interagency and public scoping meetings as presented in the DATES section above. At these meetings, WFRC and UTA will present the results of the “Transit Corridors Analysis” and the alternatives proposed for detailed evaluation in the EIS. At the public meetings, interested persons will have an opportunity to speak individually with a WFRC or UTA representative. In addition, a WFRC or UTA person will be available to receive written and record verbal comments on the scope of the NEPA review. All scoping meeting locations are accessible to persons with disabilities. Individuals who require special accommodations, such as a sign language interpreter, to participate in the meeting should contact Ms. Sherry L. Repscher, ADA Compliance Officer, Utah Transit Authority, 3600 South 700 West, Salt Lake City, UT 84119-0810 or by telephone at (801) 262-5626 or TDD at (801)-287-4657. Interested individuals, organizations, and public agencies are invited to attend the scoping meetings and participate in identifying any important environmental impact issues related to the proposed alternatives and suggesting alternatives which would be more economical or would have less environmental impact while achieving similar transportation objectives. An information packet, referred to as the Scoping Booklet, will be distributed to all public agencies and interested individuals and will be available at the meetings. Others may request the Scoping Booklet by contacting Barry Banks at the address listed above in ADDRESSES. Anyone wishing to be placed on the project mailing list to receive meeting notices and further information as the project develops should also contact Barry Banks at the address listed in ADDRESSES or call the project information line (801) 904-4127. Comments during the scoping period should focus on identifying the social, economic, and environmental concerns associated with the proposed action, and alternatives that deserve consideration, and not on a preference for a particular alternative. Comments regarding preference for a particular alternative may be submitted during subsequent public meetings or at a hearing on the Draft Environmental Impact Statement, when it is published. Scoping comments may be made at the scoping meetings or may be directed in writing to Barry Banks, Project Manager, at the address given in ADDRESSES.

II. Description of the Project Area and Transportation Need

The UTA North-South TRAX system that now includes the extension from the Salt Lake City Central Business District (CBD) to the University of Utah provides the spine for an expanded Light Rail Transit (LRT) system to serve more communities in Salt Lake County. Recent passage of a ¼ cent regional sales tax increase indicates broad public support for expansion and improvement of transit services throughout Salt Lake, Davis and Weber Counties. Expanded and improved bus service and extensions of the existing LRT system have been studied for several years by WFRC and UTA, and the Mid-Jordan Transit Corridor has been identified as a high priority for the proposed LRT extension.

In December 2000, a “Transit Corridor Analysis” evaluated alternatives for transit improvements in the existing rail corridor extending from the North-South Light Rail (TRAX) line westward through the cities of Midvale and West Jordan. This analysis identified significant and growing demand for transit service in this corridor and concluded that implementation of rail transit in this corridor held advantages over other alternatives. A copy of the “Transit Corridor Analysis” (executive summary) is available for review by contacting Barry Banks, Project Manager, as previously presented, or on the Internet at www.wfrc.org. The proposed alternative emerging from this study was the extension of rail service, using either LRT or “diesel multiple unit” (DMU) technology, to the Salt Lake City Community College in West Jordan. The proposed alignment crosses Interstate Highway 15 and the Union Pacific mainline on existing structures and would connect several major trip generators in Midvale and West Jordan with TRAX. Since completion of this analysis in December 2000, Kennecott Development Corporation has announced a major planned residential community called “Sunrise” in South Jordan. The proposed project would extend westward to include service to this community, so the City of South Jordan is included within the study area boundary.

The Mid-Jordan Transit Corridor Project is included in Phase I (2002-2012) of the Wasatch Front Regional Council's 2030 regional Long-Range Transportation Plan, which is expected to be approved by spring of 2002. The proposed project will be coordinated with on-going efforts to preserve a Western Transportation Corridor (WTC) in Salt Lake County. The WTC has been identified as a north-south, multi-modal corridor; located at approximately 5800 West. The regional Long-Range Transportation Plan calls for corridor preservation, construction of highway facilities and improved transit service in the WTC.

III. Alternatives To Be Studied

A feasibility analysis was conducted as part of the South Salt Lake County Transit Corridors Analysis. During scoping, the alternatives, findings and issues covered in the earlier studies will be reviewed and will be either affirmed or, if necessary, reconsidered in detail during the NEPA process.

The alternatives expected to be considered in detail in the EIS include:

• A “no-build” alternative: This alternative represents no change in transportation services or facilities in the corridor beyond already committed projects. Committed projects include those transit improvements defined in the transportation agencies' Long-Range Transportation Plans and Transit Development Plans for which funding has been committed.

• Transportation Systems Management Alternative: This alternative consists of low-cost infrastructure and bus transit improvements, Intelligent Transportation Systems (ITS) improvements, improvements in bus routes and operations, and other transportation systems management improvements.

• Rail Transit Alternatives: These alternatives represent the construction of a rail transit system using either LRT (electric powered from overhead wires) or DMU (diesel powered by on-board motors) technology. The eastern terminus of the project would be the North-South (TRAX) LRT Line at the 6400 South Station. Opportunities for interlining with the existing (TRAX) system will be explored for the LRT alternative. The rail alternatives would also include all facilities associated with the construction and operations of a rail transit line, including right of way, structures, track, stations, park-and-ride lots, storage and maintenance facilities, and the respective rail and bus operating plans.

IV. Probable Effects

The EIS will be prepared in accordance with NEPA and its implementing regulations including those of the Council on Environmental Quality (CEQ) implementing NEPA (40 CFR parts 1500-1508), and the FTA regulation on environmental procedures shared with the Federal Highway Administration (23 CFR part 771). The EIS will evaluate the social, economic, and environmental impacts of the alternatives. Primary concerns to be addressed include: Safety at grade crossings, site contamination in railroad rights-of-way, property effects including business disruptions and relocation, impacts on local traffic and travel patterns, noise and vibration impacts, land use impacts, wetland impacts, and aesthetic/visual impacts. The cumulative impacts of the project together with other reasonably foreseeable actions and activities will be addressed.

V. FTA New Starts Procedures

Following public review of the Draft EIS, the UTA will request FTA approval to initiate Preliminary Engineering, in accordance with the FTA New Starts regulation (49 CFR part 611). FTA will consider the merits of the project at that time, in comparison with other projects across the nation competing for New Starts funding, and either recommend or not recommend that the preferred alternative advance into Preliminary Engineering, which would include the preparation of the Final EIS.

Issued on: December 12, 2001.
Lee O. Waddleton,
Regional Administrator, Federal Transit Administration.

[FR Doc. 01-31526 Filed 12-20-01; 8:45 am]

BILLING CODE 4910-57-M